INTERNATIONAL TRADE COMMISSION

[Investigation Nos. 701-TA-746-747 and 731-TA-1724-1725 (Final)]

Overhead Door Counterbalance Torsion Springs From China and India; Cancellation of Hearing for Antidumping and Countervailing Duty Investigations

AGENCY: United States International Trade Commission.

ACTION: Notice.

DATES: August 12, 2025.

FOR FURTHER INFORMATION CONTACT: Peter Stebbins (202-205-2035), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On June 2, 2025, the Commission established a schedule for the final phase of the subject antidumping and countervailing duty investigations (90 FR 24665, June 11, 2025), and on June 17, 2025, the Commission issued a revision to this schedule (90 FR 26608, June 23, 2025). On July 30, 2025, counsel for Alcomex Beheer B.V., Alcomex Springs Pvt Ltd., and Alcomex Springs Inc. (collectively, “Alcomex”) informed the Commission that Alcomex was withdrawing its appearance in these investigations, and no longer planned to appear at any hearing or file any briefs. On August 5, 2025, counsel for IDC Group, Inc., Iowa Spring Manufacturing, Inc., and Service Spring Corp. (collectively, “Petitioners”) filed a request that the Commission cancel the scheduled hearing for this proceeding and indicated a willingness to respond to any Commission questions in lieu of an actual hearing. On August 11, 2025, counsel for Petitioners filed a request to appear at the hearing, in the event that the Commission did not cancel the hearing, and stated that they continue to request a cancellation of the hearing, due to the reasons set forth in their August 5, 2025 submission. No other parties submitted a request to appear at the hearing. Consequently, the public hearing in connection with this proceeding, scheduled to begin at 9:30 a.m. on August 15, 2025, is cancelled. Parties to this proceeding should respond to any written questions posed by the Commission in their posthearing briefs, which are due to be filed on August 22, 2025.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to § 207.21 of the Commission's rules.

By order of the Commission.
Issued: August 12, 2025.
Lisa Barton,
Secretary to the Commission.

[FR Doc. 2025-15532 Filed 8-14-25; 8:45 am]

BILLING CODE 7020-02-P